DEPARTMENT OF HEALTH AND HUMAN SERVICES

Administration for Children and Families

Proposed Information Collection Activity; ACF's Generic Clearance for Reviewer Recruitment Forms (OMB #0970-0477)

AGENCY: Office of Planning, Research, and Evaluation; Administration for Children and Families; HHS.

ACTION: Request for public comment.

SUMMARY: The Administration for Children and Families (ACF) proposes to revise the existing overarching generic clearance for Grant Reviewer Recruitment (GRR) forms to expand the focus from recruiting just grant reviewers to recruiting expert reviewers in general.

DATES: Comments due within 60 days of publication. In compliance with the requirements of Section 3506(c)(2)(A) of the Paperwork Reduction Act of 1995, the Administration for Children and Families is soliciting public comment on the specific aspects of the information collection described above.

ADDRESSES: Copies of the proposed collection of information can be obtained and comments may be forwarded by emailing OPREinfocollection@acf.hhs.gov. Alternatively, copies can also be obtained by writing to the Administration for Children and Families, Office of Planning, Research, and Evaluation, 330 C Street SW, Washington, DC 20201, Attn: OPRE Reports Clearance Officer. All requests, emailed or written should be identified by the title of the information collection.

SUPPLEMENTARY INFORMATION:

Description: Currently, the overarching generic 0970-0477 covers recruitment forms for grant reviewers, but it would be beneficial to ACF to collect information from other types of potential reviewers, such as those who review conference proposals or report drafts. This revised Generic Clearance for Reviewer Recruitment Forms would allow ACF to collect information about expertise from potential reviewers of a variety of activities.

ACF developed the original generic for GRR because each program office within ACF has a slightly different need for information about grant reviewer applicants. Similarly, ACF may recruit reviewers for a variety of different activities with slightly different needs for information about the reviewers. This revised overarching generic clearance will allow ACF to request slightly different information from potential reviewers, yet the individual forms will serve an identical function. The purpose is to select qualified reviewers for ACF review processes based on professional qualifications using data entered and documents provided by candidates. Example documents include writing samples and curriculum vitae and/or resume. ACF will use the information collected to recruit well-qualified reviewers with relevant background experience and knowledge.

The abbreviated clearance process of the generic clearance will allow the program offices to gather a suitable pool of candidates within the varied time periods available for reviewer recruitment.

These forms will be voluntary, low-burden and uncontroversial.

Respondents: Individuals who may apply to review materials for ACF.

Annual Burden Estimates
Instrument | Total number of respondents | Number of responses per respondent | Average burden hours per response | Annual burden hours
Reviewer Recruitment Forms | 3500 | 1 | .5 | 1750

Estimated Total Annual Burden Hours: 1750.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary B. Jones,
ACF/OPRE Certifying Officer.

[FR Doc. 2019-18514 Filed 8-27-19; 8:45 am]

BILLING CODE 4184-79-P